DEPARTMENT OF HOUSING AND URBAN DEVELOPMENT

[Docket No. FR-4572-D-18]

Order of Succession

AGENCY: Office of the Chief Officer, HUD

ACTION: Notice of Order of Succession.

SUMMARY: In this notice, the Chief of Staff for the Department of Housing and Urban Development designates the Order of Succession for the office of Chief Financial Officer.

EFFECTIVE DATES: May 3, 2001.

FOR FURTHER INFORMATION CONTACT: Maureen Harris, Administrative Officer, Office of the Chief Financial Officer, Department of Housing and Urban Development, Room 2104, 451 7th Street, SW, Washington, DC 20410, (202) 708-0313. (This is not a toll-free number.) This number may be accessed via TTY by calling the Federal Information Relay Service at 1-800-8339 (toll-free).

SUPPLEMENTARY INFORMATION: The Chief of Staff for the Department of Housing and Urban Development is issuing this Order of Succession of officials authorized to perform the functions and duties of the Office of the Chief Financial Officer when, by reason of absence, disability, or vacancy in office, the Chief Financial Officer is not available to exercise the powers or perform the duties of the office. This Order of Succession is subject to the provisions of the Vacancy Reform Act of 1998, 5 USC 3345-3349d.

Accordingly, the Chief of Staff designates the following Order of Succession:

Section A. Order of Succession

Subject to the provisions of the Vacancy Reform Act of 1998, during any period when, by reason of absence, disability, or vacancy in office, the Chief Financial Officer is not available to exercise the powers or perform the duties of the Chief Financial Officer, the following officials within the Office of the Chief Financial Officer are hereby designated to exercise the powers and perform the duties of the Office:

(1) Senior Advisor to the Chief Financial Officer;

(2) Assistant Chief Financial Officer for Budget.

These officials shall perform the functions and duties of the Office in the order specified herein, and no official shall serve unless all the other officials, whose position titles precede his/hers in this order, are unable to act by reason of absence, disability, or vacancy in office.

Section B. Authority Superseded

This Order of Succession supersedes the Order of Succession for the Office of the Chief Financial Officer, published at 65 FR 51016 (August 22, 2000).

Authority: Section 7(d), Department of Housing and Urban Development Act, 42 U.S.C. Sec. 3535(d)

Dated: May 3, 2001.
Daniel R. Murphy,
Chief of Staff, Department of Housing and Urban Development.

[FR Doc. 01-11743 Filed 5-9-01; 8:45 am]

BILLING CODE 4210-01-M